DEPARTMENT OF TRANSPORTATION

Surface Transportation Board

[Ex Parte No. 333]

Sunshine Act Meeting

Time and Date: 10 a.m., January 19, 2005.

Place: The Board's Hearing Room, Surface Transportation Board, 1925 K Street, NW., Washington, DC 20423.

Status: The Board will meet to discuss among themselves the following agenda items. Although the conference is open for public observation, no public participation is permitted.

MATTERS TO BE CONSIDERED: STB Docket No. 42057, Public Service Company of Colorado d/b/a Xcel Energy v. The Burlington Northern and Santa Fe Railway Company.

STB Docket No. AB-156 (Sub-No. 25X), Delaware and Hudson Railway Company, Inc.—Discontinuance of Trackage Rights Exemption—in Susquehanna County, PA, and Broome, Tioga, Chemung, Steuben, Allegany, Livingston, Wyoming, Erie, and Genesee Counties, NY.

Embraced case: STB Finance Docket No. 34561, Canadian Pacific Railway Company—Trackage Rights Exemption—Norfolk Southern Railway Company.

Embraced case: STB Finance Docket No. 34562, Norfolk Southern Railway Company—Trackage Rights Exemption—Delaware and Hudson Railway Company, Inc.

STB Finance Docket No. 33388 (Sub-No. 95), CSX Corporation and CSX Transportation, Inc., Norfolk Southern Corporation and Norfolk Southern Railway Company—Control and Operating Leases/Agreements—Conrail Inc. and Consolidated Rail Corporation [Petition to Approve Settlement Agreement and Exempt Embraced Transactions].

Embraced case: STB Finance Docket No. 33388 (Sub-No. 96), Wheeling & Lake Erie Railway Co.—Trackage Rights Exemption—Norfolk Southern Railway Co. Between Bellevue and Toledo, OH.

Embraced case: STB Finance Docket No. 33388 (Sub-No. 97), Wheeling & Lake Erie Railway Co.—Trackage Rights Exemption—Norfolk Southern Railway Co. in Cleveland, OH.

Embraced case: STB Finance Docket No. 33388 (Sub-No. 98), Norfolk Southern Railway Co.—Trackage Rights Exemption—Wheeling & Lake Erie Railway Co. Between Clairton, PA and Bellevue, OH.

Embraced case: STB Finance Docket No. 33388 (Sub-No. 99), Wheeling & Lake Erie Railway Co.—Petition for Exemption—Purchase of the Toledo Pivot Bridge—Norfolk Southern Railway Co.

Embraced case: STB Finance Docket No. 32516 (Sub-No. 1), Wheeling & Lake Erie Railway Co.—Lease and Operation Exemption—Norfolk and Western Railway Co.’s Dock at Huron, OH.

Embraced case: STB Finance Docket No. 32525 (Sub-No. 1), Wheeling & Erie Railway Co.-Trackage Rights Exemption-Norfolk and Western Railway.

STB Finance Docket No. 34483, SMS Rail Service, Inc.—Petition for Declaratory Order.

STB Finance Docket No. 32760 (Sub-No. 43), Union Pacific Corporation, Union Pacific Railroad Company, and Missouri Pacific Railroad Company-Control and Merger—Southern Pacific Rail Corporation, Southern Pacific Transportation Company, St. Louis Southwestern Railway Company, SPCSL Corp., and The Denver and Rio Grande Western Railroad Company (Arbitration Review).

STB Finance Docket No. 34633, Wisconsin & Southern Railroad Co.—Acquisition Exemption—Union Pacific Railroad Company.

STB Docket No. AB-444 (Sub-No. 1X), Lamoille Valley Railroad Company—Abandonment and Discontinuance of Trackage Rights Exemption—in Caledonia, Washington, Orleans, Lamoille, and Franklin Counties, VT.

STB Docket No. AB-68 (Sub-No. 4X), Lake Superior & Ishpeming Railroad Company—Abandonment Exemption—in Marquette County, MI.

STB Docket No. AB-882, Minnesota Commercial Railway Company—Adverse Discontinuance—in Ramsey County, MN.

Embraced case: STB Docket No. AB-884, MT Properties, Inc.—Adverse Abandonment—in Ramsey County, MN.

STB Ex Parte No. 656, Motor Carrier Bureaus—Periodic Review Proceeding.

FOR MORE INFORMATION CONTACT: A. Dennis Watson, Office of Congressional and Public Services, Telephone: (202) 565-1596, FIRS: 1-800-877-8339.

Dated: January 12, 2005.
Vernon A. Williams,
Secretary.

[FR Doc. 05-1003 Filed 1-13-05; 11:12 am]

BILLING CODE 4915-01-P